DEPARTMENT OF COMMERCE

National Oceanic and Atmospheric Administration

RIN 0648-XH032

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Personnel Committee (Closed Session); Standard Operations, Procedures and Policy (SOPPs) Committee; Executive Finance Committee; Scientific and Statistical Committee (SSC) Selection Committee (Closed Session); Advisory Panel (AP) Selection Committee (Closed Session); Law Enforcement Committee (Partially Closed Session); Spiny Lobster Committee; Snapper Grouper Committee; Dolphin Wahoo Committee; Southeast Data, Assessment, and Review (SEDAR) Committee (Partially Closed Session); Mackerel Cobia Committee; and a Committee of the Whole. The Council meeting week will include an informal public discussion session, a formal public comment period, training sessions for For-Hire Electronic Reporting, a Saltonstall-Kennedy presentation and feedback sessions, and a meeting of the full Council.

DATES: The Council meeting will be held from 8 a.m. on Monday, June 10, 2019 until 1 p.m. on Friday, June 14, 2019.

ADDRESSES:

Meeting address: The meeting will be held at the Marriott Hutchinson Island, 555 NE Ocean Blvd., Stuart, FL 34996; phone: 772/225-3700; fax 772/225-0003.

Council address: South Atlantic Fishery Management Council, 4055 Faber Place Drive, Suite 201, N. Charleston, SC 29405.

FOR FURTHER INFORMATION CONTACT: Kim Iverson, Public Information Officer, SAFMC; phone: (843) 302-8440 or toll free (866) SAFMC-10; fax: (843) 769-4520; email: kim.iverson@safmc.net. Meeting information is available from the Council's website at: http://safmc.net/safmc-meetings/council-meetings/.

SUPPLEMENTARY INFORMATION: Public comment: Written comments may be directed to Gregg Waugh, Executive Director, South Atlantic Fishery Management Council (see Council address) or electronically via the Council's website at http://safmc.net/safmc-meetings/council-meetings/. Comments received by close of business the Monday before the meeting (6/3/19) will be compiled, posted to the website as part of the meeting materials, and included in the administrative record; please use the Council's online form available from the website. For written comments received after the Monday before the meeting (after 6/3/19), individuals submitting a comment must use the Council's online form available from the website. Comments will automatically be posted to the website and available for Council consideration. Comments received prior to noon on Thursday, June 13, 2019 will be a part of the meeting administrative record.

The items of discussion in the individual meeting agendas are as follows:

Personnel Committee—Monday, June 10, 2019, 8 a.m. Until 9 a.m. (Closed Session)

1. The Committee will discuss personnel issues and provide recommendations for Council consideration.

SOPPs Committee—Monday, June 10, 2019, 9 a.m. Until 9:30 a.m.

1. The Committee will review proposed changes to the Council Handbook, discuss and provide recommendations as appropriate.

2. The Committee will receive an overview on the Council's SOPPs and timing for review, discuss and provide guidance as needed.

Executive Finance Committee—Monday, June 10, 2019, 9:30 a.m. Until 12 p.m.; Wednesday, June 12, 2019, 3:45 p.m.-4 p.m.; and Thursday, June 13, 2019, 3:30 p.m.-4 p.m.

1. The Committee will receive a report from the May 2019 meeting of the Council Coordination Committee (CCC), an update on the Magnuson-Stevens Reauthorization and the Modern Fisheries Act, and an overview of the CCC Working Paper, discuss and provide guidance to staff.

2. The Committee will review the draft Calendar Year (CY) 2019 Operational Budget, discuss and approve for Council consideration

3. The Committee will review a prioritization schedule for work on amendments, discuss and provide guidance to staff.

SSC Selection Committee, Monday, June 10, 2019, 1:30 p.m. Until 2:30 p.m. (Closed Session)

The Committee will review applications for open seats on the SSC and provide recommendations for Council consideration.

Advisory Panel Selection Committee, Monday, June 10, 2019, 2:30 p.m. Until 3:30 p.m. (Closed Session)

The Committee will review applications for open seats on advisory panels and workgroups, discuss structure of advisory panels as necessary, and provide recommendations for Council consideration.

Law Enforcement Committee, Monday, June 10, 2019, 3:30 p.m. Until 4:30 p.m. (Partially Closed Session)

1. The Committee will review nominees for Law Enforcement Officer of the Year and provide recommendations for Council consideration. (Closed Session)

2. The Committee will receive a report from the Law Enforcement Advisory Panel, discuss and provide guidance to staff.

Spiny Lobster Committee, Monday, June 10, 2019, 4:30 p.m. Until 5:30 p.m.

1. The Committee will receive a report on the status of commercial and recreational catches versus annual catch limits (ACLs)

2. The Committee will receive an overview of Spiny Lobster Amendment 13 addressing updated procedures for coordinated management with Florida and bully net regulations, discuss and provide guidance to staff.

3. The Committee will receive an overview on commercial trip limits for spiny lobster in federal waters off the coasts of NC, SC, and GA, discuss and provide guidance to staff.

4. The Committee will receive an overview of the Gulf Council Carry Over Amendment addressing species in the joint Coastal Migratory Pelagic Fishery Management Plan (FMP) and the Spiny Lobster FMP, discuss and consider approval for formal Secretarial review.

Snapper Grouper Committee, Tuesday, June 11, 2019, 8:30 a.m. Until 4:50 p.m. and Wednesday, June 12, 2019, From 8:30 a.m. Until 12 p.m.

1. The Committee will receive updates from NOAA Fisheries on commercial and recreational catches versus quotas for species under annual catch limits (ACLs) and the status of amendments under formal Secretarial review.

2. The Committee will receive an update from Dr. Marcel Reichert on the Southeast Reef Fish Survey (SERFS) and reports from the Snapper Grouper Advisory Panel and the SSC.

3. The Committee will receive an update on Snapper Grouper Amendment 38 addressing blueline tilefish, an update on development of the Council's System Management Plan for managed areas, and will review an options paper for removing species in the Jacks Complex from the Snapper Grouper FMP.

4. The Committee will review an options paper for draft Regulatory Amendment 33 addressing season modifications for red snapper, consider public input, and consider approving for public hearing.

5. The Committee will review Regulatory Framework Amendment 29 to the Snapper Grouper FMP addressing best fishing practices and the use of powerhead gear, consider public input, select preferred alternatives and approve all actions.

6. The Committee will receive an update on Regulatory Amendment 30 addressing the rebuilding plan for red grouper and consider approval for formal Secretarial review.

7. The Committee will receive an overview of the Wreckfish Individual Transferable Quota (ITQ) Review, review the final draft document, and provide guidance to staff.

8. The Committee will receive a presentation on the Economic Performance of the Snapper Grouper fishery.

Saltonstall-Kennedy (S-K) Presentation, Tuesday, June 11, 2019, 4:50 p.m. Until 5 p.m.

1. The Council will receive an overview of the S-K process and the opportunity for the public to comment.

S-K Panel Discussion, Tuesday, June 11, 2019, 5 p.m. and Wednesday, June 12, 2019, 5 p.m.

JRD & Associates, Inc. were contracted by NOAA Fisheries to conduct an assessment of the Saltonstall-Kennedy (S-K) Grant Program. As part of their analysis, they are conducting feedback sessions and interviews across the country at the fishery management council meetings to collect information from the fishing industry to determine their interest in the S-K project results and the best methods to disseminate and share the S-K project results.

Informal Question & Answer Session, Tuesday, June 11, 2019, 5 p.m.

NOAA Fisheries and the Council will hold an informal Q&A Session for the public.

Training Session for For-Hire Electronic Reporting, Tuesday, June 11, 2019, 5 p.m. and Wednesday, June 12, 2019, 4 p.m.

NOAA Fisheries and the Council will hold training sessions targeting federally permitted for-hire captains on use of approved methods for electronic reporting. Note: The training sessions are dependent upon the Final Rule being published for the South Atlantic For-hire Electronic Reporting Amendment prior to the Council meeting.

Dolphin Wahoo Committee, Wednesday, June 12, 2019, 1:30 p.m. Until 3:45 p.m.

1. The Committee will receive updates from NOAA Fisheries on the status of commercial and recreational catches versus annual catch limits.

2. The Committee will review the goals and objectives of the Dolphin Wahoo FMP and Amendment 10 to the Dolphin Wahoo FMP. Draft Amendment 10 currently includes actions to: allow bag-limit sales of dolphin by dually-permitted for-hire and commercial permit holders; revise annual catch limits and sector allocations for dolphin and wahoo to accommodate new data from the Marine Recreational Information Program; modify recreational vessel limits for dolphin; modify gear, bait, and training requirements in the commercial longline fishery for dolphin and wahoo to align with Highly Migratory Species requirements; and other measures. The Committee will review actions in the draft amendment and consider approving for public scoping.

3. The Committee will review public scoping comments on adding bullet mackerel and frigate mackerel as Ecosystem Component species and provide guidance to staff.

Formal Public Comment, Wednesday, June 12, 2019, 4 p.m.—Public comment will be accepted on items on the Council meeting agenda scheduled to be approved for Secretarial Review: Snapper Grouper Regulatory Amendment 30 (red grouper) and the Gulf Council's Carry Over Amendment (CMP & Spiny Lobster), and consideration of requesting emergency action to increase the Atlantic Group king mackerel commercial trip limit. Public comment will also be accepted on all agenda items. The Council Chair, based on the number of individuals wishing to comment, will determine the amount of time provided to each commenter.

SEDAR Committee, Thursday, June 13, 2019, 8:30 a.m. Until 9:30 a.m. (Partially Closed Session)

1. The Committee will discuss appointments to upcoming SEDAR assessments and provide recommendations for Council consideration. (Closed Session)

2. The Committee will receive an Assessment Activities update, a report from the SSC, and an overview of the Research and Monitoring Plan, discuss and take action as necessary.

Committee of the Whole, Thursday, June 13, 2019, 9:30 a.m. Until 2:30 p.m.

1. The Committee of the Whole will receive a presentation on the management history of sector allocations by the Council, discuss and take action as needed.

2. The Committee of the Whole will review the draft Allocation Review Trigger Policy, provide guidance to staff, and take action as needed.

Mackerel Cobia Committee, Thursday, June 13, 2019, 2:30 p.m. Until 3:30 p.m.

1. The Committee will receive an update on the status of commercial and recreational catches versus ACLs and the status of amendments under formal Secretarial review.

2. The Committee will receive a report from the Mackerel Cobia Advisory Panel, consider recommendations and take action as appropriate.

3. The Committee will discuss possible emergency action to increase the Atlantic king mackerel commercial trip limit and develop recommendations for Council consideration.

4. The Committee will receive an overview of Framework Amendment 8 to the Coastal Migratory Pelagic FMP addressing king mackerel commercial trip limits in Season 2 in the Atlantic Southern Zone and consider approving for public scoping.

5. The Committee will receive an update on previous considerations to address Spanish mackerel closures in the Atlantic Northern Zone, discuss management options, and take action as needed.

Council Session: Thursday, June 13, 2019, 4 p.m. Until 5:30 p.m. and Friday, June 14, 2019, 8:30 a.m. Until 1 p.m. (Partially Closed Session if Needed)

The Full Council will begin with the Call to Order, adoption of the agenda, and approval of minutes.

The Council will receive a Legal Briefing on Litigation from NOAA General Counsel (if needed) during Closed Session. The Council will receive staff reports including the Executive Director's Report, updates on the MyFishCount pilot project, the Council's Citizen Science Program, and an update from the April 2019 meeting of the Atlantic Large Whale Take Reduction Team.

Updates will be provided by NOAA Fisheries including a report on the status of commercial and recreational catches versus ACLs for species not covered during an earlier committee meeting, data-related reports, protected resources updates, update on the status of the Commercial Electronic Logbook Program, and the status of the Marine Recreational Information Program (MRIP) conversions for recreational fishing estimates. The Council will discuss and take action as necessary. The Council will review any Exempted Fishing Permits received as necessary.

The Council will receive committee reports from the Snapper Grouper, Mackerel Cobia, Spiny Lobster, SSC Selection, SEDAR, AP Selection, Dolphin Wahoo, Committee of the Whole, SOPPs, Personnel, and Executive Finance Committees, and take action as appropriate.

The Council will also receive a presentation from NOAA Fisheries Highly Migratory Species (HMS) Division on actions currently being considered for sharks and bluefin tuna, and a presentation on management within the Biscayne National Park and take action as appropriate.

The Council will receive agency and liaison reports; and discuss other business and upcoming meetings and take action as necessary.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting

Note: The times and sequence specified in this agenda are subject to change.

Authority: 16 U.S.C. 1801 et seq.

Dated: May 6, 2019.
Tracey L. Thompson,
Acting Deputy Director, Office of Sustainable Fisheries, National Marine Fisheries Service.

[FR Doc. 2019-09607 Filed 5-8-19; 8:45 am]

BILLING CODE 3510-22-P